DEPARTMENT OF TRANSPORTATION

Federal Aviation Administration

14 CFR Part 73

[Docket No. FAA-2018-0103; Airspace Docket No. 18-ASO-1]

Amendment of Restricted AreasR-2907C, R-2910B, R-2910C, andR-2910E; Pinecastle, FL

AGENCY: Federal Aviation Administration (FAA), DOT.

ACTION: Final rule; technical amendment.

SUMMARY: This action updates the controlling agency information for restricted areas R-2907C, R-2910B, R-2910C, and R-2910E; Pinecastle, FL. This is an administrative change to reflect the current organizations tasked with controlling agency responsibilities for the restricted areas. It does not affect the boundaries, designated altitudes, time of designation or activities conducted within the restricted areas.

DATES: Effective date: 0901 UTC, May 24, 2018.

FOR FURTHER INFORMATION CONTACT: Paul Gallant, Airspace Policy Group, Office of Airspace Services, Federal Aviation Administration, 800 Independence Avenue SW, Washington, DC 20591; telephone: (202) 267-8783.

SUPPLEMENTARY INFORMATION:

Authority for This Rulemaking

The FAA's authority to issue rules regarding aviation safety is found in Title 49 of the United States Code. Subtitle I, Section 106 describes the authority of the FAA Administrator. Subtitle VII, Aviation Programs, describes in more detail the scope of the agency's authority. This rulemaking is promulgated under the authority described in Subtitle VII, Part A, Subpart I, Section 40103. Under that section, the FAA is charged with prescribing regulations to assign the use of the airspace necessary to ensure the safety of aircraft and the efficient use of airspace. This regulation is within the scope of that authority as it updates the controlling agency for restricted areas R-2907C, R-2910B, R-2910C and R-2910E; Pinecastle, FL, to reflect the current responsible organizations.

The Rule

This rule amends title 14 Code of Federal Regulations (14 CFR) part 73 by updating the controlling agency name for restricted areas R-2907C, R-2910B, R-2910C, and R-2910E; Pinecastle, FL. The controlling agency for R-2907C and R-2910E is changed from “FAA, Jacksonville ARTCC,” to “FAA, Jacksonville TRACON.” The controlling agency for R-2910B and R-2910C is changed from “FAA, Jacksonville ARTCC,” to “FAA, Central Florida TRACON.” This action is necessary in order to assign controlling agency responsibilities to the air traffic control facilities having jurisdiction over the affected airspace.

This is an administrative change that does not affect the boundaries, designated altitudes, or activities conducted within the restricted areas; therefore, notice and public procedure under 5 U.S.C. 553(b) are unnecessary.

Regulatory Notices and Analyses

The FAA has determined that this action only involves an established body of technical regulations for which frequent and routine amendments are necessary to keep them operationally current. It, therefore: (1) Is not a “significant regulatory action” under Executive Order 12866; (2) is not a “significant rule” under DOT Regulatory Policies and Procedures (44 FR 11034; February 26, 1979); and (3) does not warrant preparation of a regulatory evaluation as the anticipated impact is so minimal. Since this is a routine matter that only affects air traffic procedures and air navigation, it is certified that this rule, when promulgated, does not have a significant economic impact on a substantial number of small entities under the criteria of the Regulatory Flexibility Act.

Environmental Review

The FAA has determined that this action of updating the agency information for restricted areas R-2907C, R-2910B, R-2910C and R-2910E; Pinecastle, FL, qualifies for categorical exclusion under the National Environmental Policy Act, and in accordance with FAA Order 1050.1F, Environmental Impacts: Policies and Procedures, paragraph 5-6.5.d, “Modification of the technical description of special use airspace (SUA) that does not alter the dimensions, altitudes, or times of designation of the airspace (such as changes in designation of the controlling or using agency, or correction of typographical errors).” This airspace action is an administrative change to the description of restricted areas R-2907C, R-2910B, R-2910C and R-2910E; Pinecastle, FL, to update the controlling agency names. It does not alter the dimensions, altitudes, time of designation, or use of the airspace. Therefore, this airspace action is not expected to result in any significant environmental impacts. In accordance with FAA Order 1050.1F, paragraph 5-2 regarding Extraordinary Circumstances, this action has been reviewed for factors and circumstances in which a normally categorically excluded action may have a significant environmental impact requiring further analysis, and it is determined that no extraordinary circumstances exist that warrant preparation of an environmental assessment.

List of Subjects in 14 CFR Part 73

Airspace, Prohibited areas, Restricted areas.

Adoption of the Amendment

In consideration of the foregoing, the Federal Aviation Administration amends 14 CFR part 73 as follows:

PART 73—SPECIAL USE AIRSPACE

1. The authority citation for part 73 continues to read as follows:

Authority: 49 U.S.C. 106(f), 106(g); 40103, 40113, 40120; E.O. 10854, 24 FR 9565, 3 CFR, 1959-1963 Comp., p. 389.

§ 73.29 [Amended]

2. Section 73.29 is amended as follows:

* * * * *

R-2907C Pinecastle, FL [Amended]

By removing the words “Controlling agency. FAA, Jacksonville ARTCC,” and adding in their place the words “Controlling agency. FAA, Jacksonville TRACON.”

R-2910B Pinecastle, FL [Amended]

By removing “Controlling agency. FAA, Jacksonville ARTCC,” and adding in its place “Controlling agency. FAA, Central Florida TRACON.”

R-2910C Pinecastle, FL [Amended]

By removing “Controlling agency. FAA, Jacksonville ARTCC,” and adding in its place “Controlling agency. FAA, Central Florida TRACON.”

R-2910E Pinecastle, FL [Amended]

By removing “Controlling agency. FAA, Jacksonville ARTCC,” and adding in its place “Controlling agency. FAA, Jacksonville TRACON.”

Issued in Washington, DC, on March 6, 2018.
Leslie M. Swann,
Acting Manager, Airspace Policy Group.

[FR Doc. 2018-05041 Filed 3-12-18; 8:45 am]

BILLING CODE 4910-13-P